DEPARTMENT OF LABOR

Employment and Training Administration

[NAFTA-3578 and TA-W-37,035; Court Metal Finishing, Inc., Flint, Michigan]

Notice of Revised Determination on Reconsideration

On March 31, 2000, the Department issued an Affirmative Determination Regarding Application for Reconsideration for the workers and former workers of the subject firm denied eligibility to apply for North American Free Trade Agreement-Transitional Adjustment Assistance (NAFTA-TAA). The notice was published in the Federal Register on April 11, 2000 (65 FR 19390). The petitioners presented information regarding customer imports from Mexico of articles like or directly competitive with those produced at the workers' firm.

The January 6, 2000, denial of NAFTA-TAA for workers of Court Metal Finishing, Inc., Flint, Michigan, engaged in employment related to the production of valves was based on the finding that criteria (3) and (4) of the Group Eligibility Requirements of paragraph (a)(1) of section 250 of the Trade Act of 1974, as amended, were not met. The investigation revealed that there were no company or customer imports of valves from Mexico or Canada during the time period relevant to the investigation. Court Metal Finishing, Inc. did not shift production of valves from the Flint, Michigan plant to Mexico or Canada.

On reconsideration, the Department conducted an additional survey of the subject firm's major declining customers. The responses revealed that a major declining customer increased imports of valves from Mexico or Canada while reducing purchases from Court Metal Finishing, Inc.

The Department, on its own motion, reviewed the findings of the January 6, 2000 Trade Adjustment Assistance (TAA) negative determination applicable to workers of the subject firm, petition number TA-W-37,035. The investigation review shows that with the new customer information obtained on reconsideration of NAFTA-3578, all criteria of the Group Eligibility Requirements of section 222 of the Trade Act of 1974 are met.

Conclusion

After careful consideration of the new facts obtained on reconsideration, it is concluded that the workers of Court Metal Finishing, Inc., Flint, Michigan, were adversely affected by increased imports, including those from Mexico or Canada, of articles like or directly competitive with those produced at the subject firm.

All workers of Court Metal Finishing, Inc., Flint, Michigan, who became totally or partially separated from employment on or after November 1, 1998, through two years from the date of this issuance are eligible to apply for NAFTA-TAA under Section 250 of the Trade Act of 1974.

All workers of Court Metal Finishing, Inc., Flint, Michigan, who became totally or partially separated from employment on or after October 15, 1998 through two years from the date of this issuance are eligible to apply for adjustment assistance under Section 223 of the Trade Act of 1974.

Signed at Washington, DC this 13th day of April 2000.
Grant D. Beale,
Program Manager, Division of Trade Adjustment Assistance.

[FR Doc. 00-9972 Filed 4-20-00; 8:45 am]

BILLING CODE 4510-30-M